SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with such requirements.

DATES: Submit comments on or before December 29, 2015.

ADDRESSES: Send all comments to Brittany Borg, Contracting Officer Representative, Office of Entrepreneurial Development, U.S. Small Business Administration, 409 3rd Street, Room 6200, Washington, DC 20416.

FOR FURTHER INFORMATION CONTACT: Brittany Borg, Contracting Officer Representative 202-401-1354, oedsurvey@sba.gov, or Curtis B. Rich, SBA PRA Officer, 202-205-7030, curtis.rich@sba.gov.

SUPPLEMENTARY INFORMATION: The Emerging Leaders Initiative aims to assist established small businesses located in historically challenged communities with increasing their sustainability, attracting outside investment, and strengthening each community's economic base by creating jobs and providing valuable goods and services. These objectives are pursued by offering eligible business executives a 7-month intensive course focused on the skills essential to develop their companies, expand their resource networks, and increase their confidence and motivation. The course is designed to be hands-on and is composed of classroom sessions, out-of-class preparation work, and executive mentoring groups where participants can discuss their challenges. A broad range of topics is covered in the curriculum, including financial measures of business health, strategies for marketing, access to funding, and employee management and recruitment.

SBA plans to conduct annual performance-monitoring activities to assess the short- and intermediate-term outcomes of participants in the Emerging Leaders Initiative. The broad outcomes assessed will include satisfaction, changes in management behavior, and changes in economic outcomes, such as loans obtained and jobs created. Specifically, SBA plans to implement three instruments with the participants in each cohort: an intake assessment form at the start of the program to document baseline conditions, a satisfaction-oriented feedback form at the end of the program, and an annual outcome-oriented survey for 3 years after program completion. The latter instrument will document changes in key outcomes over a longer period, because job growth, revenue growth, profitability, and other economic outcomes of program participation are expected to manifest in the intermediate and long terms.

Solicitation of Public Comments: SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection:

Title: Emerging Leader's Initiative

Instrument | Anticipated response rate (%) | Participants across 48 sites: Total | Participants across 48 sites: Respondents | Participants across 48 sites: Non- respondents | Participants across 48 sites: Burden in hours
Intake form | 100 | 960 | 960 | 0 | 448
Feedback form | 87 | 960 | 838 | 122 | 336
Follow-up surveys (graduates):
1st year | 65 | 838 | 545 | 293 | 301
2nd year | 39 | 838 | 327 | 511 | 225
3rd year | 20 | 838 | 168 | 671 | 169

Curtis B. Rich,
Management Analyst.

[FR Doc. 2015-27754 Filed 10-29-15; 8:45 am]

BILLING CODE 8025-01-P